SECURITIES AND EXCHANGE COMMISSION

[Release No. 34-87885; SR-NYSEArca-2019-78]

Self-Regulatory Organizations; NYSE Arca, Inc.; Notice of Withdrawal of a Proposed Rule Change, as Modified by Amendment No. 1, To List and Trade Shares of the Innovator PTAM Core Bond Fund ETF Under NYSE Arca Rule 8.600-E

January 3, 2020.

On October 30, 2019, NYSE Arca, Inc. (“Exchange”) filed with the Securities and Exchange Commission (“Commission”), pursuant to Section 19(b)(1) of the Securities Exchange Act of 1934 (“Act”) ¹ and Rule 19b-4 thereunder,² a proposed rule change to list and trade shares of the Innovator PTAM Core Bond ETF, and on November 8, 2019, the Exchange filed Amendment No. 1 to the proposed rule change, which amended and replaced the proposed rule change in its entirety. The proposed rule change was published for comment in the Federal Register on November 19, 2019.³ The Commission did not receive any comment letters on the proposed rule change.

¹ 15 U.S.C. 78s(b)(1).

² 17 CFR 240.19b-4.

³ See Securities Exchange Act Release No. 87514 (November 13, 2019), 84 FR 63929.

On December 18, 2019, the Exchange withdrew the proposed rule change (SR-NYSEArca-2019-78), as modified by Amendment No. 1.

For the Commission, by the Division of Trading and Markets, pursuant to delegated authority.⁴
⁴ 17 CFR 200.30-3(a)(12).
J. Matthew DeLesDernier,
Assistant Secretary.

[FR Doc. 2020-00117 Filed 1-8-20; 8:45 am]

BILLING CODE 8011-01-P